NUCLEAR REGULATORY COMMISSION

[Docket No. 40-9092; NRC-2013-0164]

Reno Creek In Situ Uranium Recovery Project in Campbell County, Wyoming

AGENCY: Nuclear Regulatory Commission.

ACTION: Draft supplemental environmental impact statement; request for comment.

SUMMARY: By letter dated October 3, 2012, AUC LLC (AUC) submitted an application to the U.S. Nuclear Regulatory Commission (NRC) for a new source and byproduct materials license for the proposed Reno Creek In Situ Uranium Recovery (ISR) Project (Reno Creek ISR Project) proposed to be located in Campbell County, Wyoming. The NRC is issuing for public comment a Draft Supplemental Environmental Impact Statement (Draft SEIS) for the Reno Creek ISR Project. The Draft SEIS is Supplement 6 to NUREG-1910, “Generic Environmental Impact Statement for In Situ Leach Uranium Milling Facilities.”

DATES: Submit comments by August 22, 2016. Comments received after this date will be considered if it is practical to do so, but the NRC is able to assure consideration only for comments received on or before this date.

ADDRESSES: You may submit comments by any of the following methods:

• Federal Rulemaking Web site: Go to http://www.regulations.gov and search for Docket ID NRC-2013-0164. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H8, U.S. Nuclear Regulatory Commission, Washington, DC 20555-0001.

For additional direction on accessing information and submitting comments, see “Obtaining Information and Submitting Comments” in the SUPPLEMENTARY INFORMATION section of this document.

FOR FURTHER INFORMATION CONTACT: Jill Caverly, Office of Nuclear Material Safety and Safeguards, U.S. Nuclear Regulatory Commission, Washington, DC 20555-0001; telephone: 301-415-7674; email: Jill.Caverly@nrc.gov.

SUPPLEMENTARY INFORMATION:

I. Obtaining Information and Submitting Comments

A. Accessing Information

Please refer to Docket ID NRC-2013-0164 when contacting the NRC about the availability of information regarding this action. You may obtain publicly-available information related to this action by any of the following methods:

• Federal Rulemaking Web site: Go to http://www.regulations.gov and search for Docket ID NRC-2013-0164.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The Draft SEIS (NUREG-1910, Supplement 6) is available in ADAMS under Accession Number ML16181A082. NUREG-1910 is available in ADAMS under Accession Numbers ML091480244 (Volume 1) and ML091480188 (Volume 2).

• NRC's PDR: You may examine and purchase copies of public documents at the NRC's PDR, Room O1-F21, One White Flint North, 11555 Rockville Pike, Rockville, Maryland 20852.

B. Submitting Comments

Please include Docket ID NRC-2013-0164 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Further Information

Under the NRC's environmental protection regulations in part 51 of title 10 of the Code of Federal Regulations (10 CFR), which implement the National Environmental Policy Act of 1969 (NEPA), preparation of an Environmental Impact Statement (EIS) or supplement to an EIS (SEIS) is required for issuance of a license to possess and use source material for uranium milling (see 10 CFR 51.20(b)(8)).

In May 2009, the NRC staff issued NUREG-1910, “Generic Environmental Impact Statement for In Situ Leach Uranium Milling Facilities” (herein referred to as the GEIS). In the GEIS, the NRC assessed the potential environmental impacts from construction, operation, aquifer restoration, and decommissioning of an in situ leach uranium milling facility (also known as an ISR facility) located in four specific geographic regions of the western United States. The proposed Reno Creek ISR Project is located within the Wyoming East Uranium Milling Region identified in the GEIS. The Draft SEIS supplements the GEIS and incorporates by reference relevant portions from the GEIS, and uses site-specific information from AUC's license application and independent sources to fulfill the requirements in 10 CFR 51.20(b)(8).

The Draft SEIS for the proposed Reno Creek ISR Project may also be accessed on the Internet at http://www.nrc.gov/reading-rm/doc-collections/nuregs/staff/ by selecting “NUREG-1910” and then “Supplement 6,” or on the NRC's Reno Creek ISR Project Web page at http://www.nrc.gov/materials/uranium-recovery/license-apps/reno-creek.html. Additionally, a copy of the Draft SEIS will be available at the following public libraries: Campbell County Library, 2101 S 4-J Rd., Gillette, WY 82718; Campbell County Library, Wright Branch, 105 Wright Blvd., Wright, WY 82732.

The Draft SEIS was prepared in response to an application submitted by AUC by letter dated October 3, 2012. The applicant proposes the construction, operation, aquifer restoration, and decommissioning of an ISR facility.

The Draft SEIS was prepared by the NRC and its contractor, Southwest Research Institute. The NRC has prepared this Draft SEIS in compliance with NEPA and the NRC's regulations for implementing NEPA (10 CFR part 51).

The proposed Reno Creek ISR Project will be located in Campbell County between the communities of Wright, Edgerton and Gillette and would encompass approximately 2,451 hectares (6,057 acres).

The Draft SEIS is being issued as part of the NRC's process to decide whether to issue a license to AUC pursuant to 10 CFR part 40. In the Draft SEIS, the NRC staff has assessed the potential environmental impacts from the construction, operation, aquifer restoration, and decommissioning of the proposed Reno Creek ISR Project. The NRC staff assessed the impacts of the proposed action and an alternative on land use; historical and cultural resources; visual and scenic resources; climatology, meteorology and air quality; geology, minerals and soils; water resources; ecological resources; socioeconomics; environmental justice; noise; traffic and transportation; public and occupational health and safety; and waste management. Additionally, the Draft SEIS analyzes and compares the benefits and costs of the proposed action.

The NRC staff evaluated site-specific data and information on the Reno Creek ISR Project to determine if AUC's proposed activities and the site characteristics were consistent with those evaluated in the GEIS. NRC then determined which relevant sections of, and impact conclusions in, the GEIS could be incorporated by reference. The NRC staff also determined if additional data or analysis was needed to assess the potential environmental impacts for a specific environmental resource area. The NRC documented its assessments and conclusions in the Draft SEIS.

In addition to the action proposed by AUC, the NRC staff addressed the no-action alternative. The no-action alternative serves as a baseline for comparing the potential environmental impacts of the proposed action.

After weighing the impacts of the proposed action and comparing the alternative, the NRC staff, in accordance with 10 CFR 51.71(f), sets forth its preliminary recommendation regarding the proposed action. Unless safety issues mandate otherwise, the NRC staff preliminarily recommends that the proposed action be approved (i.e., the NRC should issue a source material license for the proposed Reno Creek ISR Project).

The Draft SEIS is being issued for public comment. The public comment period on the Draft SEIS begins with publication of this notice and continues until August 22, 2016. Written comments should be submitted as described in the ADDRESSES section of this document. Comments received after this date will be considered if it is practical to do so, but the NRC is able to assure consideration only for comments received on or before this date.

Dated at Rockville, Maryland, this 29th day of June, 2016.
For the U.S. Nuclear Regulatory Commission.
Craig G. Erlanger,
Director, Division of Fuel Cycle Safety, Safeguards, and Environmental Review, Office of Nuclear Material Safety and Safeguards.

[FR Doc. 2016-16104 Filed 7-6-16; 8:45 am]

BILLING CODE 7590-01-P